DEPARTMENT OF COMMERCE

Economic Development Administration

Notice of Informational Meeting for the i6 Challenge Under EDA's Economic Adjustment Assistance Program

AGENCY: Economic Development Administration (EDA), Department of Commerce.

ACTION: Notice of public meeting.

SUMMARY: The i6 Challenge is a new, multi-agency innovation competition led by the Economic Development Administration (EDA), a bureau of the U.S. Department of Commerce (DOC). The i6 Challenge is designed to encourage and reward innovative, ground-breaking ideas that will accelerate technology commercialization and new-venture formation across the United States, for the ultimate purpose of helping to drive economic growth and job creation. To accomplish this, the i6 Challenge targets sections of the research-to-deployment continuum that are in need of additional support, in order to strengthen regional innovation ecosystems. Applicants to the i6 Challenge are expected to propose mechanisms to fill in existing gaps in the continuum or leverage existing infrastructure and institutions, such as economic development organizations, academic institutions, or other non-profit organizations, in new and innovative ways to achieve the i6 objectives. Under the i6 Challenge, EDA intends to fund implementation grants for technical assistance through its Economic Adjustment Assistance Program (42 U.S.C. 3149). The federal funding opportunity for the i6 Challenge was announced on May 3, 2010, and a notice and request for applications was published in the Federal Register (75 FR 23676).

DATES: EDA will hold an additional informational meeting via conference call at 4 p.m. (Eastern time) on Monday, June 21, 2010, to answer questions about the i6 Challenge. More details on the meeting and any updates will be posted at the i6 Challenge Web site at http://www.eda.gov/i6.

FOR FURTHER INFORMATION CONTACT: For additional information, please send questions via e-mail to i6@doc.gov. EDA's Web site at http://www.eda.gov/i6 also has information on EDA and the i6 Challenge.

SUPPLEMENTARY INFORMATION: Purpose of the Meeting: To communicate the goals and requirements of the i6 Challenge and to answer questions related to the federal funding opportunity announcement.

Public Participation: To participate in the informational meeting, please call 1-800-779-5194. Please give the operator the passcode “EDA.” Because of the anticipated number of callers, callers should plan to dial-in 10 minutes early. Please be advised that the organizers of the meeting intend to (1) record the full conference call and all questions and answers, and (2) post the recording at http://www.eda.gov/i6.

Dated: June 7, 2010.
Hina Shaikh,
Deputy Chief Counsel, Economic Development Administration.

[FR Doc. 2010-13970 Filed 6-9-10; 8:45 am]

BILLING CODE 3510-24-P